DEPARTMENT OF THE INTERIOR

Fish and Wildlife Service

50 CFR Parts 25 and 32

RIN 1018-AG01

2000-2001 Refuge-Specific Hunting and Sport Fishing Regulations

AGENCY: Fish and Wildlife Service, Interior.

ACTION: Proposed rule.

SUMMARY: We propose to add national wildlife refuges (refuges) to the list of areas open for hunting and/or sport fishing, along with pertinent refuge-specific regulations for such activities; and amend certain regulations on other refuges that pertain to migratory game bird hunting, upland game hunting, big game hunting, and sport fishing for the 2000-2001 season.

DATES: You should submit comments on or before August 9, 2000.

ADDRESSES: Submit written comments to Chief, Branch of Planning and Policy, Division of Refuges, U.S. Fish and Wildlife Service, 1849 C Street, NW, MS 670 ARLSQ, Washington, DC 20240. See SUPPLEMENTARY INFORMATION for information on electronic submission.

FOR FURTHER INFORMATION CONTACT: Leslie A. Marler, (703) 358-2397; Fax (703) 358-2248.

SUPPLEMENTARY INFORMATION: The National Wildlife Refuge System Administration Act of 1966 (NWRSAA) closes national wildlife refuges to all uses until we open them. The Secretary of the Interior (Secretary) may open refuge areas to any use, including hunting and/or fishing upon a determination that such uses are compatible with the purposes of the refuge. The action also must be in accordance with provisions of all laws applicable to the areas, must be consistent with the principles of sound fish and wildlife management and administration, and otherwise must be in the public interest. These requirements ensure that we maintain the biological integrity, diversity, and environmental health of the National Wildlife Refuge System (System) for the benefit of present and future generations of Americans.

We review refuge hunting and fishing programs annually to determine whether to include additional refuges or whether individual refuge regulations governing existing programs need modifications, deletions, or additions made to them. Changing environmental conditions, State and Federal regulations, and other factors affecting wildlife populations and habitat may warrant modifications to ensure the continued compatibility of hunting and fishing programs and that these programs will not materially interfere with or detract from the fulfillment of the mission of the System or the purposes of the refuge.

You may find provisions governing hunting and fishing on national wildlife refuges in 50 CFR part 32. We regulate hunting and fishing on refuges to:

• Ensure compatibility with the purpose(s) of the refuge;

• Properly manage the fish and wildlife resource;

• Protect other refuge values; and

• Ensure refuge user safety.

On many refuges where we decide it is proper to open them for hunting and fishing, our general policy of adopting regulations identical to State hunting and fishing regulations is adequate in meeting these objectives. On other refuges, we must supplement State regulations with more restrictive Federal regulations to ensure that we meet our management responsibilities, as outlined under the section entitled “Statutory Authority.” We issue refuge-specific hunting and sport fishing regulations when we open wildlife refuges to either migratory game bird hunting, upland game hunting, big game hunting, or sport fishing. These regulations list the wildlife species that you may hunt or those species subject to sport fishing, seasons, bag limits, methods of hunting or fishing, descriptions of open areas, and other provisions as appropriate. You may find previously issued refuge-specific regulations for hunting and fishing in 50 CFR part 32. In this rulemaking, we are promulgating many of the amendments to these sections to standardize and clarify the existing language of these regulations.

Some refuges make seasonal information available in brochures or leaflets to supplement these refuge-specific regulations, which we provide for in 50 CFR 25.31.

Plain Language Mandate

In this rule the vast majority of the revisions to the individual refuge units are to comply with a Presidential mandate to use plain language in regulations and do not modify the substance of the previous regulations. These types of changes include using “you” to refer to the reader and “we” to refer to the Service and using the word “allow” instead of “permit” when we do not require the use of a permit for an activity.

Statutory Authority

The National Wildlife Refuge System Administration Act (NWRSAA) of 1966, as amended by the National Wildlife Refuge System Improvement Act of 1997 (16 U.S.C. 668dd-668ee), and the Refuge Recreation Act (RRA) of 1962 (16 U.S.C. 460k-460k-4) govern the administration and public use of national wildlife refuges.

The National Wildlife Refuge System Improvement Act (NWRSIA) of 1997 is the latest amendment to the NWRSAA. It amends and builds upon the NWRSAA in a manner that provides an improved “Organic Act” for the System similar to those that exist for other public lands. It serves to ensure that we effectively manage the System as a national network of lands, waters, and interests for the protection and conservation of our Nation's wildlife resources. The NWRSAA states first and foremost that we focus the mission of the System on conservation of fish, wildlife, and plant resources and their habitat. This Act requires the Secretary, before initiating or allowing a new use of a refuge, or before expanding, renewing, or extending an existing use of a refuge, to determine that the use is compatible and promotes public safety. The NWRSIA establishes as the policy of the United States that wildlife-dependent recreation, when it is compatible, is a legitimate and appropriate public use of the System, through which the American public can develop an appreciation for fish and wildlife. The NWRSIA establishes six compatible wildlife-dependent recreational uses as the priority general public uses of the System. Those priority uses are: hunting, fishing, wildlife observation, wildlife photography, environmental education, and environmental interpretation.

The RRA authorizes the Secretary to administer areas within the System for public recreation as an appropriate incidental or secondary use only to the extent that doing so is practicable and not inconsistent with the primary purpose(s) for which Congress and the Service established the areas. This act requires that any recreational use of refuge lands be compatible with the primary purpose(s) for which we established the refuge and not inconsistent with other previously authorized operations.

The NWRSAA and RRA also authorize the Secretary to issue regulations to carry out the purposes of the acts and regulate uses.

We develop hunting and sport fishing plans for each refuge prior to opening it to hunting or fishing. In many cases, we develop refuge-specific regulations to ensure the compatibility of the programs with the purposes for which we established the refuge. We have ensured initial compliance with the NWRSAA and the RRA for hunting and sport fishing on newly acquired refuges through an interim determination of compatibility made at the time of acquisition. This policy ensures that we make the determinations required by these acts prior to adding refuges to the lists of areas open to hunting and fishing in 50 CFR part 32. We ensure continued compliance by the development of Comprehensive Conservation Plans, long-term hunting and sport fishing plans, and by annual review of hunting and sport fishing programs and regulations.

In preparation for new openings, we include the following documents in the refuges' “opening package”: an interim hunting and fishing management plan; a Section 7 determination pursuant to the Endangered Species Act that these openings will have no effect, or are not likely to have an adverse effect, on listed species or critical habitats; a letter of concurrence from the affected State(s); interim compatibility determinations; and refuge-specific regulations to administer the hunting and/or fishing programs. Upon review of these documents, we have determined that the opening of these national wildlife refuges to hunting and fishing is compatible with the principles of sound fish and wildlife management and administration and otherwise will be in the public interest.

We propose to allow the following wildlife-dependent recreational activities for the first time:

Hunting of migratory game birds on:

• Grand Bay National Wildlife Refuge, Alabama

• Mandalay National Wildlife Refuge, Louisiana

• Lake Umbagog National Wildlife Refuge, Maine and New Hampshire

• McNary National Wildlife Refuge, Oregon

• Balcones Canyonland National Wildlife Refuge, Texas

• Lower Rio Grande Valley National Wildlife Refuge, Texas

• Arid Lands National Wildlife Refuge Complex, Washington

Upland game hunting on:

• Grand Bay National Wildlife Refuge, Alabama

• Cameron Prairie National Wildlife Refuge, Louisiana

• Lake Umbagog National Wildlife Refuge, Maine and New Hampshire

• McNary National Wildlife Refuge, Oregon

• Arid Lands National Wildlife Refuge Complex, Washington

Big game hunting on:

• Grand Bay National Wildlife Refuge, Alabama

• Mandalay National Wildlife Refuge, Louisiana

• Lake Umbagog National Wildlife Refuge, Maine and New Hampshire

• San Andres National Wildlife Refuge, New Mexico

• McNary National Wildlife Refuge, Oregon and Washington

• Lower Rio Grande Valley National Wildlife Refuge, Texas

• Mackay Island National Wildlife Refuge, Virginia

• Arid Lands National Wildlife Refuge Complex, Washington

Sport fishing on:

• Atchafalaya National Wildlife Refuge, Louisiana

• Bayou Cocodrie National Wildlife Refuge, Louisiana

• Rachel Carson National Wildlife Refuge, Maine

• Sand Lake National Wildlife Refuge, South Dakota

• Trinity River National Wildlife Refuge, Texas

• Mackay Island National Wildlife Refuge, Virginia

• Arid Lands National Wildlife Refuge Complex, Washington

In accordance with NWRSAA and the RRA, we have determined that these openings are compatible and consistent with the primary purposes for which we established the respective refuges.

We propose to remove Ankeny National Wildlife Refuge, Oregon, which had been open for migratory game bird hunting, from the list of refuges open for wildlife-dependent recreational activities.

We are correcting an administrative error that occurred when we inadvertently dropped “Sport Fishing” as an activity open to the public in Sand Lake National Wildlife Refuge in the State of South Dakota from 50 CFR 32.61. Sand Lake National Wildlife Refuge has been open to “Sport Fishing” since December 22, 1978.

We are making a technical correction to update 50 CFR 25.23 to reflect current information collection clearance numbers that the Office of Management and Budget (OMB) approved for: “Special Use Permit Application on National Wildlife Refuges Outside Alaska” (1018-0102 which expires December 31, 2001), and “Special Use Permit Applications on National Wildlife Refuges In Alaska” (1018-0014, which expires August 31, 2000, and is currently at OMB for renewal).

Request for Comments

You may comment on this proposed rule by any one of several methods:

1. You may mail comments to: Chief, Branch of Planning and Policy, Division of Refuges, U.S. Fish and Wildlife Service, 1849 C Street, NW, MS 670 ARLSQ, Washington, DC 20240.

2. You may comment via the Internet to: Refuge_Specific_Comments@fws. gov. Please submit Internet comments as an ASCII file avoiding the use of special characters and any form of encryption. Please also include: “Attn: 1018-AG01” and your name and return address in your Internet message. If you do not receive a confirmation from the system that we have received your Internet message, contact us directly at (703) 358-1744.

3. You may fax comments to: Chief, Branch of Planning and Policy, Division of Refuges, (703) 358-2248.

4. Finally, you may hand-deliver comments to the address mentioned above.

We seek comments on this proposed rule and will accept comments by any of the methods described above. Our practice is to make comments, including names and home addresses of respondents, available for public review during regular business hours. Individual respondents may request that we withhold their home address from the rulemaking record, which we will honor to the extent allowable by law. In some circumstances, we would withhold from the rulemaking record a respondent's identity, as allowable by law. If you wish for us to withhold your name and/or address, you must state this request prominently at the beginning of your comment. However, we will not consider anonymous comments. We will make all submissions from organizations or businesses and from individuals identifying themselves as representatives or officials of organizations or businesses, available for public inspection in their entirety.

Department of the Interior policy is, whenever practicable, to afford the public a meaningful opportunity to participate in the rulemaking process. We considered providing a 60-day rather than a 30-day comment period. However, we determined that an additional 30-day delay in processing these refuge-specific hunting and fishing regulations would hinder the effective planning and administration of our hunting and fishing programs. That delay would jeopardize establishment of hunting and fishing programs this year, or shorten their duration. Many of these rules also relieve restrictions and allow the public to participate in recreational activities on a number of refuges. In addition, in order to continue to provide for previously authorized hunting opportunities while at the same time provide for adequate resource protection, we must be timely in providing modifications to certain hunting programs on some refuges.

When finalized, we will incorporate this regulation into Title 50 Code of Federal Regulations (50 CFR) parts 25 and 32. Part 25 contains the administrative provisions for the National Wildlife Refuge System. Part 32 contains general provisions and refuge-specific regulations for hunting and sport fishing on national wildlife refuges.

Clarity of This Regulation

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to understand if it were divided into more (but shorter) sections? (5) Is the description of the rule in the “Supplementary Information” section of the preamble helpful in understanding the rule? (6) What else could we do to make the rule easier to understand?

Regulatory Planning and Review

This document is not a significant rule subject to Office of Management and Budget review under Executive Order 12866. See explanation under Regulatory Flexibility Act.

a. This rule will not have an annual economic effect of $100 million or adversely affect an economic sector, productivity, jobs, the environment, or other units of government. A cost-benefit and economic analysis is not required. This rule is administrative, legal, technical, and procedural in nature and makes minor modification to existing refuge public use programs. The rule will allow hunting on 10 refuges where we had prohibited hunting and allow fishing on 7 refuges where we had prohibited that activity. We estimate that these changes will result in 9,440 additional visitor-hunting-days and 49,200 visitor-fishing-days. The appropriate measure for the net benefits of these changes is the additional net economic value experienced by the participants. The 1996 National Survey of Fishing, Hunting, and Wildlife-Associated Recreation measured net economic values by activity and region. Applying these estimates to the number of additional activity-days permitted by this rule yields an estimate of the national benefits from increased hunting of $368,000 and from increased fishing of $1.6 million (both in 1999 dollars). These estimates are below the threshold for a significant rule.

b. This rule will not create inconsistencies with other agencies' actions. Before proposing regulations, we coordinate recreational use on national wildlife refuges with State governments as well as other Federal agencies having adjoining or overlapping jurisdiction. The regulation is consistent with, and not less restrictive than, other agencies' rules.

c. This rule will not materially affect entitlements, grants, user fees, loan programs, or the rights and obligations of their recipients. The provisions of this rule only apply to persons involved in wildlife-dependent public use, including regulated hunting and sport fishing, on national wildlife refuges, which is a privilege and not a right. User fees will not change as a result of this rule.

d. This rule will not raise novel legal or policy issues. This rule continues the practice of requiring public use of refuges to be compatible with the primary purpose of the refuge.

Regulatory Flexibility Act

The Department of the Interior certifies that this rule will not have a significant economic effect on a substantial number of small entities such as businesses, organizations, and governmental jurisdictions in the area as defined under the Regulatory Flexibility Act (5 U.S.C. 601 et seq.). A final Regulatory Flexibility Analysis is not attached, and a Small Entity Compliance Guide is not required.

This rulemaking will not have a significant economic impact on a substantial number of small entities (refer to paragraph a. above for the net economic values). Congress created the National Wildlife Refuge System to conserve fish, wildlife, and plants and their habitats. They facilitated this conservation mission by providing Americans opportunities to visit and participate in compatible wildlife-dependent recreation, including hunting, fishing, wildlife observation, wildlife photography, environmental education, and environmental interpretation as priority public uses on national wildlife refuges and to better appreciate the value of, and need for, fish and wildlife conservation.

This rule is administrative, legal, technical, and procedural in nature and provides for minor changes to the methods of hunting and fishing permitted but does not stop the overall use allowed. This rule will not significantly change the number of visitors using refuges or their spending and, therefore, will have no significant impact on the local economies in their vicinity.

Small Business Regulatory Enforcement Fairness Act

This rule is not a major rule under 5 U.S.C. 804(2), the Small Business Regulatory Enforcement Fairness Act, as discussed in the Regulatory Planning and Review section above. This rule:

a. Does not have an annual effect on the economy of $100 million or more [This regulation will affect only visitors at national wildlife refuges. It will cause a slight change in the number of visitors using the refuge (9,440 additional visitor-hunting days and 49,200 visitor-fishing days).];

b. Will not cause a major increase in costs or prices for consumers, individual industries, Federal, State, or local government agencies, or geographic regions; or

c. Does not have significant adverse effects on competition, employment, investment, productivity, innovation, or the ability of U.S.-based enterprises to compete with foreign-based enterprises.

Unfunded Mandates Reform Act

Since this rule applies to public use of federally owned and managed refuges, it does not impose an unfunded mandate on State, local, or Tribal governments or the private sector of more than $100 million per year. The rule does not have a significant or unique effect on State, local, or Tribal governments or the private sector. A statement containing the information required by the Unfunded Mandates Reform Act (2 U.S.C. 1531 et seq.) is not required.

Takings (Executive Order 12630)

In accordance with Executive Order 12630, the rule does not have significant takings implications. This regulation will affect only visitors at national wildlife refuges and limit what they can do while they are on a refuge.

Federalism (Executive Order 13132)

As discussed in the Regulatory Planning and Review and Unfunded Mandates Reform Act sections above, this rule does not have sufficient federalism implications to warrant the preparation of a Federalism Assessment under Executive Order 13132. In preparing this proposed rule, we worked with State governments.

Civil Justice Reform (Executive Order 12988)

In accordance with Executive Order 12988, the Office of the Solicitor has determined that the rule does not unduly burden the judicial system and meets the requirements of sections 3(a) and 3(b)(2) of the Order. The regulation will clarify established regulations and result in better understanding of the regulations by refuge visitors.

Paperwork Reduction Act

This regulation does not contain any information collection requirements other than those already approved by the Office of Management and Budget under the Paperwork Reduction Act. See 50 CFR 25.23 for information concerning that approval.

Section 7 Consultation

In preparation for new openings, we include Section 7 consultation documents approved by the Services' Ecological Services program in the refuge's “openings package” for Regional review and approval from the Washington Office. We reviewed the changes in hunting and fishing regulations herein with regard to Section 7 of the Endangered Species Act of 1973 (16 U.S.C. 1531-1543). For the national wildlife refuges proposed to open for hunting and/or fishing the Service has determined that Bayou Cocodrie, Lake Umbagog, Grand Bay, Lower Rio Grande, and McNary will not likely adversely affect and Rachel Carson, Atchafalaya, San Andres, and Mandalay will not affect the continued existence of any endangered or threatened species or result in the destruction or adverse modification of habitat of such species within the System.

Arid Lands is opening with no Section 7 under an existing record of decision with the Department of Energy, who has primary jurisdiction.

We comply with Section 7 of the Endangered Species Act of 1973 (16 U.S.C. 1531-1543) when developing Comprehensive Conservation Plans, management plans for public use of refuges, and prior to implementing any new or revised public recreation program on a refuge as identified in 50 CFR 26.32. We also make determinations required by the Endangered Species Act on a case-by-case basis before the addition of a refuge to the lists of areas open to hunting or fishing as contained in 50 CFR 32.7.

National Environmental Policy Act

We analyzed this rule in accordance with the criteria of the National Environmental Policy Act of 1969 (NEPA) (42 U.S.C. 4332(C)) and 516 DM 6, Appendix 1. This rule does not constitute a major Federal action significantly affecting the quality of the human environment. An environmental impact statement/assessment is not required.

A categorical exclusion from NEPA documentation covers this amendment of refuge-specific hunting and fishing regulations since it is technical and procedural in nature, and the environmental effects are too broad, speculative, or conjectural to lend themselves to meaningful analysis (516 DM 2, Appendix 1.10).

Prior to the addition of a refuge to the list of areas open to hunting and fishing in 50 CFR part 32, we develop hunting and fishing plans for the affected refuges. We incorporate these proposed refuge hunting and fishing activities in the refuge Comprehensive Conservation Plans and/or step-down management plans, pursuant to our refuge planning guidance in 602 FW 1-3. We prepare these plans in compliance with section 102(2)(C) of NEPA, and the Council on Environmental Quality's regulations for implementing NEPA in 40 CFR parts 1500-1508. We invite the affected public to participate in the review, development, and implementation of these plans.

Available Information for Specific Refuges

Individual refuge headquarters retain information regarding public use programs and the conditions that apply to their specific programs and maps of their respective areas. You may also obtain information from the Regional offices at the addresses listed below:

Region 1—California, Hawaii, Idaho, Nevada, Oregon, and Washington. Assistant Regional Director—Refuges and Wildlife, U.S. Fish and Wildlife Service, Eastside Federal Complex, Suite 1692, 911 N.E. 11th Avenue, Portland, Oregon 97232-4181; Telephone (503) 231-6214.

Region 2—Arizona, New Mexico, Oklahoma, and Texas. Assistant Regional Director—Refuges and Wildlife, U.S. Fish and Wildlife Service, Box 1306, 500 Gold Avenue, Albuquerque, New Mexico 87103; Telephone (505) 248-7419.

Region 3—Illinois, Indiana, Iowa, Michigan, Minnesota, Missouri, Ohio, and Wisconsin. Assistant Regional Director—Refuges and Wildlife, U.S. Fish and Wildlife Service, 1 Federal Drive, Federal Building, Fort Snelling, Twin Cities, Minnesota 55111; Telephone (612) 713-5401.

Region 4—Alabama, Arkansas, Florida, Georgia, Kentucky, Louisiana, Mississippi, North Carolina, South Carolina, Tennessee, Puerto Rico, and the Virgin Islands. Assistant Regional Director—Refuges and Wildlife, U.S. Fish and Wildlife Service, 1875 Century Boulevard, Atlanta, Georgia 30345; Telephone (404) 679-7166.

Region 5—Connecticut, Delaware, Maine, Maryland, Massachusetts, New Hampshire, New Jersey, New York, Pennsylvania, Rhode Island, Vermont, Virginia, and West Virginia. Assistant Regional Director—Refuges and Wildlife, U.S. Fish and Wildlife Service, 300 Westgate Center Drive, Hadley, Massachusetts 01035-9589; Telephone (413) 253-8306.

Region 6—Colorado, Kansas, Montana, Nebraska, North Dakota, South Dakota, Utah, and Wyoming. Assistant Regional Director—Refuges and Wildlife, U.S. Fish and Wildlife Service, 134 Union Blvd., Lakewood, Colorado 80228; Telephone (303) 236-8145.

Region 7—Alaska. Assistant Regional Director—Refuges and Wildlife, U.S. Fish and Wildlife Service, 1011 E. Tudor Rd., Anchorage, Alaska 99503; Telephone (907) 786-3545.

Primary Author

Leslie A. Marler, Management Analyst, Division of Refuges, U.S. Fish and Wildlife Service, Washington, DC 20240, is the primary author of this rulemaking document.

List of Subjects

50 CFR Part 25

Administrative practice and procedure, Concessions, Reporting and recordkeeping requirements, Safety, Wildlife refuges.

50 CFR Part 32

Fishing, Hunting, Reporting and recordkeeping requirements, Wildlife, Wildlife refuges.

For the reasons set forth in the preamble, we propose to amend Title 50, Chapter I, subchapter C of the Code of Federal Regulations as follows:

PART 25—[AMENDED]

1. The authority citation for part 25 continues to read as follows:

Authority: 5 U.S.C. 301; 16 U.S.C. 460k, 664, 668dd, and 715i, 3901 et seq.; and Pub. L. 102-402, 106 Stat. 1961.

2. By revising § 25.23 to read as follows:

§ 25.23 What are the general regulations and information collection requirements?

The Office of Management and Budget has approved the information collection requirements contained in subchapter C, parts 25, 32, and 36 under 44 U.S.C. 3501 et seq. and assigned the following clearance numbers: Special Use Permit Applications on National Wildlife Refuges in Alaska (SUP-AK), clearance number 1018-0014; Special Use Permit Applications on National Wildlife Refuges Outside Alaska (SUP), clearance number 1018-0102. See § 36.3 of this subchapter for further information on Special Use Permit Applications on National Wildlife Refuges in Alaska. We are collecting the information to assist us in administering these programs in accordance with statutory authorities that require that recreational uses be compatible with the primary purposes for which the areas were established. We require the information requested in the application form for the applicant to obtain a benefit. We estimate the public reporting burden for the SUP application form to be 30 minutes per response. This includes time for reviewing instructions, gathering and maintaining data, and completing and reviewing the form. Direct comments on the burden estimate or any other aspect of this form to the Information Collection Clearance Officer, U.S. Fish and Wildlife Service, MS 222 ARLSQ, Washington, DC 20240 (1018-0014 or 1018-0102).

PART 32—[AMENDED]

3. The authority citation for part 32 continues to read as follows:

Authority: 5 U.S.C. 301; 16 U.S.C. 460k, 664, 668dd-668ee, and 715i.

§ 32.7 [Amended]

4. In § 32.7 by:

a. Alphabetically adding “Grand Bay National Wildlife Refuge” in the State of Alabama;

b. Revising the listing of “Walnut Creek National Wildlife Refuge” under the State of Iowa to read “Neal Smith National Wildlife Refuge;”

c. Alphabetically adding “Lake Umbagog National Wildlife Refuge” in the State of Maine;

d. Alphabetically adding “Lake Umbagog National Wildlife Refuge” in the State of New Hampshire;

e. Alphabetically adding “San Andres National Wildlife Refuge” in the State of New Mexico;

f. Removing “Ankeny National Wildlife Refuge” in the State of Oregon;

g. Revising the listing of “Klamath Forest National Wildlife Refuge” to read “Klamath Marsh National Wildlife Refuge” in the State of Oregon.

h. Alphabetically adding “McNary National Wildlife Refuge” in the State of Oregon;

i. Alphabetically adding “Lower Rio Grande Valley National Wildlife Refuge” in the State of Texas;

j. Alphabetically adding “Trinity River National Wildlife Refuge” in the State of Texas;

k. Alphabetically adding “Mackay Island National Wildlife Refuge” in the State of Virginia; and

l. Alphabetically adding “Arid Lands National Wildlife Refuge Complex” in the State of Washington.

5. In § 32.20 Alabama by alphabetically adding Grand Bay National Wildlife Refuge to read as follows:

§ 32.20 Alabama.

* * * * *

Grand Bay National Wildlife Refuge

A. Hunting of Migratory Game Birds. We allow hunting of geese, ducks, and coots on designated areas of the refuge subject to the following condition: We require a refuge permit.

B. Upland Game Hunting. We allow hunting of squirrel and rabbits on designated areas of the refuge subject to the following condition: We require a refuge permit.

C. Big Game Hunting. We allow hunting of white-tailed deer on designated areas of the refuge subject to the following condition: We require a refuge permit.

D. Sport Fishing. [Reserved]

* * * * *

6. In § 32.23 Arkansas by revising paragraphs B. and D.1. of Wapanocca National Wildlife Refuge to read as follows:

§ 32.23 Arkansas.

* * * * *

Wapanocca National Wildlife Refuge

* * * * *

B. Upland Game Hunting. We allow hunting of squirrel, rabbit, beaver, nutria, raccoon, and opossum on designated areas of the refuge subject to the following condition: We require permits.

* * * * *

D. Sport Fishing. * * *

1. We allow fishing from March 15 through October 31 from sunrise to sunset.

* * * * *

7. In § 32.24 California by:

a. Adding paragraphs A.5., A.6., B.6., and B.7. of Colusa National Wildlife Refuge;

b. Adding paragraphs A.8., A.9, B.6, and B.7. of Delevan National Wildlife Refuge;

c. Revising paragraph A.2., and adding paragraphs A.2.a., A.2.b. of Lower Klamath National Wildlife Refuge;

d. Adding paragraphs A.8., A.9., B.6., and B.7. of Sacramento National Wildlife Refuge;

e. Adding paragraphs A.5., A.6., B.5., and B.6. of Sutter National Wildlife Refuge; and

f. Revising paragraph A.2., adding paragraphs A.2.a. and A.2.b. of Tule Lake National Wildlife Refuge to read as follows:

§ 32.24 California.

* * * * *

Colusa National Wildlife Refuge

A. Hunting of Migratory Game Birds. * * *

* * * * *

5. You may enter or exit only at designated locations.

6. Vehicles may stop only at designated parking areas. We prohibit the dropping of passengers or equipment or stopping between designated parking areas.

B. Upland Game Hunting. * * *

* * * * *

6. You may enter or exit only at designated locations.

7. Vehicles may stop only at designated parking areas. We prohibit the dropping of passengers or equipment or stopping between designated parking areas.

* * * * *

Delevan National Wildlife Refuge

A. Hunting of Migratory Game Birds. * * *

* * * * *

8. You may enter or exit only at designated locations.

9. Vehicles may stop only at designated parking areas. We prohibit the dropping of passengers or equipment, or stopping between designated parking areas.

B. Upland Game Hunting. * * *

* * * * *

6. You may enter or exit only at designated locations.

7. Vehicles may stop only at designated parking areas. We prohibit the dropping of passengers or equipment, or stopping between designated parking areas.

* * * * *

Lower Klamath National Wildlife Refuge

A. Hunting of Migratory Game Birds. * * *

* * * * *

2. Shooting hours end at 1:00 p.m. on all California portions of the refuge with the following exceptions:

a. The refuge manager may designate up to 6 afternoon special youth or disabled hunter waterfowl hunts per season; and

b. The refuge manager may designate up to 3 days per week of afternoon waterfowl hunting for the general public after December 1.

* * * * *

Sacramento National Wildlife Refuge

A. Hunting of Migratory Game Birds. * * *

* * * * *

8. You may enter or exit only at designated locations.

9. Vehicles may stop only at designated parking areas. We prohibit the dropping of passengers or equipment or stopping between designated parking areas.

B. Upland Game Hunting. * * *

* * * * *

6. You may enter or exit only at designated locations.

7. Vehicles may stop only at designated parking areas. We prohibit the dropping of passengers or equipment or stopping between designated parking areas.

* * * * *

Sutter National Wildlife Refuge

A. Hunting of Migratory Game Birds. * * *

* * * * *

5. You may enter or exit only at designated locations.

6. Vehicles may stop only at designated parking areas. We prohibit the dropping of passengers or equipment or stopping between designated parking areas.

B. Upland Game Hunting. * * *

* * * * *

5. You may enter or exit only at designated locations.

6. Vehicles may stop only at designated parking areas. We prohibit the dropping of passengers or equipment or stopping between designated parking areas.

* * * * *

Tule Lake National Wildlife Refuge

A. Hunting of Migratory Game Birds. * * *

* * * * *

2. Shooting hours end at 1:00 p.m. on all California portions of the refuge with the following exceptions:

a. The refuge manager may designate up to 6 afternoon special youth or disabled hunter waterfowl hunts per season; and

b. The refuge manager may designate up to 3 days per week of afternoon waterfowl hunting for the general public after December 1.

* * * * *

8. In § 32.27 Delaware by revising paragraphs A.5., A.7., B.3., the introductory text of paragraph C., paragraphs C.1., C.3., and C.4. and removing paragraphs A.8. and B.4 of Bombay Hook National Wildlife Refuge to read as follows:

§ 32.27 Delaware.

* * * * *

Bombay Hook National Wildlife Refuge

* * * * *

A. Hunting of Migratory Game Birds. * * *

* * * * *

5. The maximum number of hunters permitted per blind is as follows: West Waterfowl Area—4; South Waterfowl Area—3; Young Waterfowlers Area—2.

* * * * *

7. Waterfowl hunters may not possess more than 15 shotgun shells per day on the West and Young Waterfowlers Hunt Areas.

B. Upland Game Hunting. * * *

* * * * *

3. You may possess only approved nontoxic shot while in the field.

C. Big Game Hunting. We allow hunting of turkey and deer on designated areas of the refuge subject to the following conditions:

1. We require a refuge permit except on the South Upland Hunting Area.

* * * * *

3. We require a valid State permit for turkey hunting.

4. During firearms deer season, hunters must wear in a conspicuous manner as an outer layer on the head, chest, and back a minimum of 400 square inches (2,600 cm2) of solid-colored orange clothing or material.

* * * * *

9. In § 32.28 Florida by:

a. Revising paragraph D. of Chassahowitzka National Wildlife Refuge; and

b. Revising paragraphs A.1., A.5., and A.7. of Merritt Island National Wildlife Refuge to read as follows:

§ 32.28 Florida.

* * * * *

Chassahowitzka National Wildlife Refuge

* * * * *

D. Sport Fishing. We allow fishing on the refuge year round subject to the following condition: You must fish in accordance with State regulations.

* * * * *

Merritt Island National Wildlife Refuge

A. Hunting of Migratory Game Birds.* * *

1. You must possess a valid refuge hunting permit at all times while hunting on the refuge. In addition, we annually require a quota permit for hunt areas 1 and 4 from the beginning of the regular waterfowl season through December 31.

* * * * *

5. You must complete and carry proof of completing an approved hunter safety training course in all hunt areas.

* * * * *

7. The public may not enter the refuge between sunset and sunrise except: You may access the refuge for waterfowl hunting only after 4:00 a.m. each hunting day during waterfowl hunting season, and a valid refuge hunting permit must be in your possession.

* * * * *

10. In § 32.31 Idaho by:

a. Revising paragraph B. of Bear Lake National Wildlife Refuge;

b. Revising paragraph B. of Camas National Wildlife Refuge;

c. Revising paragraph B. of Kootenai National Wildlife Refuge; and

d. Revising paragraph B.2. of Minidoka National Wildlife Refuge to read as follows:

§ 32.31 Idaho.

* * * * *

Bear Lake National Wildlife Refuge

* * * * *

B. Upland Game Hunting. We allow hunting of partridge, grouse, and cottontail rabbits, including pygmy rabbits, on designated areas of the refuge subject to the following condition: You may possess only approved nontoxic shot while in the field.

* * * * *

Camas National Wildlife Refuge

* * * * *

B. Upland Game Hunting. We allow hunting of pheasant and grouse on designated areas of the refuge subject to the following condition: You may possess only approved nontoxic shot while in the field.

* * * * *

Kootenai National Wildlife Refuge

* * * * *

B. Upland Game Hunting. We allow hunting of forest grouse on designated areas of the refuge subject to the following condition: You may possess only approved nontoxic shot while in the field.

* * * * *

Minidoka National Wildlife Refuge

* * * * *

B. Upland Game Hunting. * * *

* * * * *

2. You may possess only approved nontoxic shot while in the field.

* * * * *

11. In § 32.32 Illinois by:

a. Revising paragraph D. of Chautauqua National Wildlife Refuge;

b. Revising paragraph A.4.and adding paragraph A.5. of Upper Mississippi River National Wildlife and Fish Refuge to read as follows:

§ 32.32 Illinois.

* * * * *

Chautauqua National Wildlife Refuge

* * * * *

D. Sport Fishing. We allow fishing on designated areas of the refuge subject to the following conditions:

1. We allow fishing on Lake Chautauqua from January 15 through October 15. You may not fish in the Waterfowl Hunting Area during waterfowl hunting season.

2. You may not leave private boats in refuge waters overnight.

3. We restrict motorboats to “slow speed/minimum wake.”

4. The public may not enter Weis Lake on the Cameron-Billsbach Unit of Chautauqua National Wildlife Refuge from October 16 through January 14, to provide sanctuary for migratory birds.

* * * * *

Upper Mississippi River National Wildlife and Fish Refuge

A. Hunting of Migratory Game Birds. * * *

* * * * *

4. On Pools 4 through 11, you may not place or leave decoys on the refuge during the time from ½ hour after the close of legal shooting hours, until 1 hour before the start of legal shooting hours.

5. This condition applies to Pools 4 through 11 only. We prohibit construction of permanent hunting blinds using manmade materials. You must remove all manmade blind materials from the refuge at the end of each day's hunt. Any blinds containing manmade materials left on the refuge are subject to immediate removal and disposal. Manmade materials include, but are not limited to: wooden pallets, lumber, railroad ties, fence posts (wooden or metal), wire, nails, staples, netting, or tarps. We allow you to leave only seasonal blinds, made entirely of natural vegetation and biodegradable twines, on the refuge. We consider all such blinds public property and open to use by any person on a first-come basis. We allow you to gather only willow, grasses, marsh vegetation, and dead wood on the ground from the refuge for blind-building materials. We prohibit cutting or removing any other refuge trees or vegetation.

* * * * *

12. In § 32.33 Indiana by revising paragraph D.1. of Muscatatuck National Wildlife Refuge to read as follows:

§ 32.33 Indiana.

* * * * *

Muscatatuck National Wildlife Refuge

* * * * *

D. Sport Fishing. * * *

1. You may fish from the bank and from nonmotorized boats on Stanfield Lake from May 15 through October 15. You may not boat at other times. Stanfield Lake is open to ice fishing when ice conditions permit.

* * * * *

13. In § 32.34 Iowa by revising the heading of Walnut Creek National Wildlife Refuge to read as follows and placing the listing in alphabetical order:

§ 32.34 Iowa.

* * * * *

Neal Smith National Wildlife Refuge

* * * * *

14. In § 32.37 Louisiana by:

a. Revising Atchafalaya National Wildlife Refuge;

b. Revising paragraphs B., C., and D. of Bayou Cocodrie National Wildlife Refuge;

c. Revising Cameron Prairie National Wildlife Refuge;

d. Removing paragraphs D.3. and D.4. of Grand Cote National Wildlife Refuge;

e. Revising the introductory text of paragraph A. of Lacassine National Wildlife Refuge;

f. Revising the introductory text of paragraph C. of Lake Ophelia National Wildlife Refuge; and

g. Revising paragraphs A., C., and D. of Mandalay National Wildlife Refuge to read as follows:

§ 32.37 Louisiana.

* * * * *

Atchafalaya National Wildlife Refuge

A. Hunting of Migratory Game Birds. We allow hunting of geese, ducks, coots, snipe, and woodcock on designated areas of the refuge subject to the following conditions:

1. Hunting must be in accordance with Sherburne Wildlife Management Area regulations.

2. For the Indian Bayou Area, we require an Army Corps of Engineer permit.

B. Upland Game Hunting. We allow hunting of squirrel, rabbit, raccoon, opossum, nutria, muskrat, mink, fox, bobcat, beaver, and otter on designated areas of the refuge subject to the following conditions:

1. Hunting must be in accordance with Sherburne Wildlife Management Area regulations.

2. For the Indian Bayou Area, we require an Army Corps of Engineer permit.

C. Big Game Hunting. We allow hunting of deer and turkey on designated areas of the refuge subject to the following conditions:

1. Hunting must be in accordance with Sherburne Wildlife Management Area regulations.

2. For the Indian Bayou Area, we require an Army Corps of Engineer permit.

D. Sport Fishing. We allow finfishing and shellfishing year round in accordance with Sherburne Wildlife Management Area regulations:

1. We require refuge permits for commercial shellfishing.

2. For the Indian Bayou Area, we require an Army Corps of Engineer permit for commercial shellfishing.

* * * * *

Bayou Cocodrie National Wildlife Refuge

* * * * *

B. Upland Game Hunting. We allow hunting of squirrels, rabbit, raccoon, and coyote on designated areas of the refuge subject to the following condition: We require refuge permits.

C. Big Game Hunting. We allow hunting of white-tailed deer on designated areas of the refuge subject to the following condition: We require refuge permits.

D. Sport Fishing. We allow fishing on designated areas of the refuge subject to the following conditions:

1. Each boat/vehicle entering the refuge must possess an entrance pass.

2. We allow fishing during daylight hours only.

3. We allow fishing on the Cross Bayou Cut and all tributaries that fill with water from Cocodrie Bayou during high water stages.

4. We prohibit camping.

5. We allow only cotton limb lines.

6. You may not use trotlines, slat traps, or nets while fishing.

* * * * *

Cameron Prairie National Wildlife Refuge

A. Hunting of Migratory Game Birds. We allow hunting of migratory game birds in designated areas of the refuge subject to the following conditions:

1. We require refuge permits.

2. Any person entering, using, or occupying the refuge for hunting must abide by all terms and conditions in the appropriate refuge brochure.

B. Upland Game Hunting. We allow upland game hunting in designated areas of the refuge subject to the following conditions:

1. We require refuge permits.

2. Any person entering, using, or occupying the refuge for hunting must abide by all terms and conditions in the appropriate refuge brochure.

C. Big Game Hunting. We allow hunting of white-tailed deer in designated areas of the refuge subject to the following conditions:

1. We require refuge permits.

2. Any person entering, using, or occupying the refuge for hunting must abide by all terms and conditions in the appropriate refuge brochure.

D. Sport Fishing. We allow sport fishing in designated areas of the refuge subject to the following condition: Any person entering, using, or occupying the refuge for fishing must abide by all terms and conditions in the appropriate refuge brochure.

* * * * *

Lacassine National Wildlife Refuge

A. Hunting of Migratory Game Birds. We allow hunting of geese, duck, gallinules, and coots on designated areas of the refuge subject to the following conditions:

* * * * *

Lake Ophelia National Wildlife Refuge

* * * * *

C. Big Game Hunting. We allow hunting of white-tailed deer and turkey on designated areas of the refuge subject to the following conditions:

* * * * *

Mandalay National Wildlife Refuge

A. Hunting of Migratory Game Birds. We allow hunting of migratory game birds in designated areas of the refuge subject to the following condition: Any person entering, using, or occupying the refuge for hunting must abide by all terms and conditions in the refuge hunting brochure.

* * * * *

C. Big Game Hunting. We allow hunting of white-tailed deer and feral hogs on designated areas of the refuge subject to the following condition: Any person entering, using, or occupying the refuge for hunting must abide by all terms and conditions in the refuge hunting brochure.

D. Sport Fishing. We allow fishing on designated areas of the refuge subject to the following condition: Any person entering, using, or occupying the refuge for fishing must abide by all terms and conditions in the refuge fishing brochure.

* * * * *

15. In § 32.38 Maine by:

a. Alphabetically adding Lake Umbagog National Wildlife Refuge;

b. Revising paragraph D. of Rachel Carson National Wildlife Refuge; and

c. Revising paragraph D. of Sunkhaze Meadows National Wildlife Refuge to read as follows:

§ 32.38 Maine.

* * * * *

Lake Umbagog National Wildlife Refuge

A. Hunting of Migratory Game Birds. We allow hunting of ducks, geese, common snipe, sora, Virginia rail, common moorhen, and woodcock on designated areas of the refuge subject to the following conditions:

1. You may possess only approved nontoxic shot while in the field.

2. Designated permanent blinds will be available by reservation. We allow no other permanent blinds. You must remove temporary blinds, boats, and decoys from the refuge following each day's hunt.

3. You must wear in a conspicuous manner on the outermost layer of the head, chest, and back, a minimum of 400 square inches (2,600 cm²) of solid-colored hunter orange clothing or material, except when hunting ducks or geese.

4. We allow pre-hunt scouting, however, we will not allow dogs during pre-hunt scouts.

5. We prohibit dog training.

6. You must unload all firearms outside of legal State hunting hours.

7. We prohibit the use of all-terrain vehicles (ATV's).

8. The Refuge will be open to hunting during the hours stipulated under Maine hunting regulations, but no longer than from ½ hour before legal sunrise to ½ hour after legal sunset.

B. Upland Game Hunting. We allow hunting of coyote, fox, raccoon, woodchuck, red squirrel, eastern gray squirrel, porcupine, skunk, American crow, showshoe hare, ring-necked pheasant, ruffed grouse, and northern bobwhite in designated areas subject to the following conditions:

1. You may possess only approved nontoxic shot while in the field.

2. You may only use pursuit or trailing dogs to hunt coyote or snowshoe hare.

3. We allow hunting of snowshoe hare with dogs from November 20 to January 1.

4. We allow hunting of coyote with dogs from October 20 to November 9.

5. We allow a maximum of four dogs per hunter.

6. Dogs may only be on the refuge when the hunter is present.

7. You must equip dogs used to hunt coyote with operational radiotelemetry collars. You must be in possession of a working radiotelemetry receiver that can detect and track the frequency(ies) emitted by each radio collar used.

8. We do not allow hunting for coyote and raccoon from ½ hour after sunset to ½ hour before sunrise.

9. We allow pre-hunt scouting, however, we do not allow dogs during pre-hunt scouts.

10. We prohibit dog training.

11. You must wear in a conspicuous manner on the outermost layer of the head, chest, and back, a minimum of 400 square inches (2,600 cm²) of solid-colored hunter orange clothing or material.

12. You must unload all firearms outside of legal State hunting hours.

13. We prohibit the use of all-terrain vehicles (ATV's).

14. The refuge will be open to hunting during the hours stipulated under Maine hunting regulations, but no longer than from ½ hour before legal sunrise to ½ hour after legal sunset.

C. Big Game Hunting. We allow hunting of white-tailed deer, moose, black bear, and wild turkey on designated areas of the refuge subject to the following conditions:

1. We allow bear hunting with dogs from October 20 to October 29.

2. You must equip dogs used to hunt bear with operational radiotelemetry collars. You must be in possession of a working radiotelemetry receiver that can detect and track the frequency(ies) emitted by each radio collar used.

3. We allow a maximum of four dogs per hunter.

4. Dogs may only be on the refuge when the hunter is present.

5. You must take the first bear you tree, except in the case of cubs or a sow with cubs.

6. You must report where you took the bear to the State of Maine.

7. We allow pre-hunt scouting, however, we will not allow dogs during pre-hunt scouts.

8. We prohibit dog training.

9. You may use only portable tree stands, and you must remove them from the refuge each day.

10. You must wear in a conspicuous manner on the outermost layer of the head, chest, and back a minimum of 400 square inches (2,600 cm²) of solid-colored hunter orange clothing or material, except when hunting turkey.

11. You must unload all firearms outside of legal State hunting hours.

12. We prohibit the use of all-terrain vehicles (ATV's).

13. The refuge will be open to hunting during the hours stipulated under Maine hunting regulations, but no longer than from ½ hour before legal sunrise to ½ hour after legal sunset.

D. Sport Fishing. [Reserved]

* * * * *

Rachel Carson National Wildlife Refuge

* * * * *

D. Sport Fishing. We allow fishing on designated areas of the refuge subject to the following condition: We allow fishing from sunrise to sunset.

Sunkhaze Meadows National Wildlife Refuge

* * * * *

D. Sport Fishing. You may fish on the waters of and from the banks of Baker Brook, Birch Stream, Buzzy Brook, Johnson Brook, Little Birch Stream, Little Buzzy Brook, Sandy Stream, and Sunkhaze Stream.

16. In § 32.40 Massachusetts by:

a. Revising paragraph D. of Monomoy National Wildlife Refuge;

b. Adding paragraph D.3. to Nantucket National Wildlife Refuge; and

c. Revising the introductory text of paragraph B and revising paragraph B.3. and adding paragraph B.4. to Oxbow National Wildlife Refuge to read as follows:

§ 32.40 Massachusetts.

* * * * *

Monomoy National Wildlife Refuge

* * * * *

D. Sport Fishing. We allow fishing in designated areas of the refuge subject to the following condition: In addition to daytime fishing, we allow fishing after sunset in accordance with State regulations.

Nantucket National Wildlife Refuge

* * * * *

D. Sport Fishing. * * *

* * * * *

3. In addition to daytime fishing, we allow fishing after sunset in accordance with State regulations.

Oxbow National Wildlife Refuge

* * * * *

B. Upland Game Hunting. We allow hunting of upland game birds, turkey, and small game on designated areas of the refuge subject to the following conditions:

* * * * *

3. You may possess only approved nontoxic shot while in the field, except while hunting turkey.

4. Hunters will comply with all State hunting regulations.

* * * * *

17. In § 32.42 Minnesota by adding introductory text to paragraph A, revising the introductory text of paragraph B. and adding paragraphs B.2., B.3., and C.3. to Big Stone National Wildlife Refuge to read as follows:

§ 32.42 Minnesota.

* * * * *

Big Stone National Wildlife Refuge

A. Hunting of Migratory Game Birds. You may not hunt any migratory game birds on the refuge. You may retrieve waterfowl taken outside the refuge boundary up to 100 yards (90 m) inside the refuge.

B. Upland Game Hunting. You may hunt partridge, pheasant, wild turkey, gray and fox squirrel, cottontail and jack rabbit, red and gray fox, raccoon, and striped skunk on designated areas of the refuge subject to the following conditions:

* * * * *

2. You may hunt fox, raccoon, and striped skunk only during open seasons for other small game species. You may not use dogs while raccoon hunting.

3. You may hunt only turkey if you have a valid State turkey hunting permit in your possession.

C. Big Game Hunting. * * *

* * * * *

3. You may hunt only deer if you have a valid State permit in your possession.

* * * * *

18. In § 32.44 Missouri by revising paragraphs A., B., and C. of Big Muddy National Wildlife Refuge to read as follows:

§ 32.44 Missouri.

* * * * *

Big Muddy National Wildlife Refuge

A. Hunting of Migratory Game Birds. We allow hunting of migratory game birds on designated areas of the refuge subject to posted regulations and the following conditions:

1. Shotgun hunters may use only approved nontoxic shot while in the field.

2. You must remove all boats, decoys, and blinds from the refuge following each day's hunt except for blinds made entirely of marsh vegetation. You may not cut woody vegetation on the refuge for blinds.

B. Upland Game Hunting. We allow hunting of upland game animals on designated areas of the refuge subject to posted regulations and the following conditions:

1. You may use only approved nontoxic shot while hunting for upland game, except wild turkeys. You may use lead shot while hunting for wild turkey.

C. Big Game Hunting. We allow big game hunting on designated areas of the refuge subject to posted regulations and the following conditions:

1. You may not use tree spikes to help you climb trees or hunt on the refuge.

2. You must remove tree stands from the refuge within 24 hours of the close of the deer hunting season.

3. You may not hunt over or place on the refuge any salt or other mineral blocks.

* * * * *

19. In § 32.47 Nevada by:

a. Revising paragraphs A. and B. of Ash Meadows National Wildlife Refuge;

b. Revising paragraphs A., B., and D.1. of Pahranagat National Wildlife Refuge; and

c. Adding paragraph A.3. and revising the introductory text of paragraph D. and paragraph D.2. of Ruby Lake National Wildlife Refuge.

§ 32.47 Nevada.

Ash Meadows National Wildlife Refuge

A. Hunting of Migratory Game Birds. We allow hunting of geese, ducks, coots, moorhens, snipe, and doves in accordance with State and refuge-specific regulations on designated areas of the refuge subject to the following conditions:

1. We allow hunting only on designated days.

2. We allow only nonmotorized boats or boats with electric motors on the refuge hunting area during the migratory waterfowl hunting season.

B. Upland Game Hunting. We allow hunting of quail and rabbit in accordance with State and refuge-specific regulations on designated areas of the refuge subject to the following conditions:

1. We allow hunting of quail and rabbit only on designated days during the regular State season for quail.

2. We prohibit the discharging of rifles or handguns.

* * * * *

Pahranagat National Wildlife Refuge

A. Hunting of Migratory Game Birds. We allow hunting of geese, ducks, coots, moorhens, snipe, and doves in accordance with State and refuge-specific regulations on designated areas of the refuge subject to the following conditions:

1. We allow hunting only on designated days.

2. We allow only nonmotorized boats or boats with electric motors on the refuge hunting area during the migratory waterfowl hunting season.

B. Upland Game Hunting. We allow hunting of quail and rabbit in accordance with State and refuge-specific regulations on designated areas of the refuge subject to the following condition: We allow hunting of quail and rabbit only on designated days during the regular State season for quail.

* * * * *

D. Sport Fishing. * * *

1. We allow fishing year round with exception of North Marsh, which we close October 1 to February 1.

* * * * *

Ruby Lake National Wildlife Refuge

A. Hunting of Migratory Game Birds. * * *

* * * * *

3. The refuge is open to the public from 1 hour before sunrise to 2 hours after sunset.

* * * * *

D. Sport Fishing. We allow fishing on designated areas of the refuge subject to Federal and State laws and the following conditions:

* * * * *

2. We allow fishing on dikes in the areas north of the Brown Dike and east of the Collection Ditch with the exception that you may fish by wading and from personal flotation devices (float tubes) in designated areas.

* * * * *

20. In § 32.48 New Hampshire by adding Lake Umbagog National Wildlife Refuge to read as follows:

§ 32.48 New Hampshire.

* * * * *

Lake Umbagog National Wildlife Refuge

A. Hunting of Migratory Game Birds. We allow hunting of ducks, geese, common snipe, and woodcock on designated areas of the refuge subject to the following conditions:

1. You may possess only approved nontoxic shot while in the field.

2. Designated permanent blinds will be available by reservation. We will allow no other permanent blinds. You must remove temporary blinds, boats, and decoys from the refuge following each day's hunt.

3. You must wear in a conspicuous manner on the outermost layer of the head, chest, and back, a minimum of 400 square inches (2,600 cm²) of solid-colored hunter orange clothing or material, except when hunting ducks or geese.

4. You must unload all firearms outside of legal State hunting hours.

5. We prohibit use of all-terrain vehicles (ATV's).

6. We allow pre-hunt scouting, however, we do not permit dogs during pre-hunt scouts.

7. We prohibit dog training.

8. The refuge will be open to hunting during the hours stipulated under New Hampshire hunting regulations, but no longer than from ½ hour before legal sunrise to ½ hour after legal sunset.

B. Upland Game Hunting. We allow hunting of coyote, fisher, fox, raccoon, woodchuck, red squirrel, porcupine, skunk, weasel, American crow, mink, muskrat, snowshoe hare, ring-necked pheasant, ruffed grouse, and northern bobwhite in designated areas subject to the following conditions:

1. You may possess only approved nontoxic shot while in the field.

2. You may only use pursuit or trailing dogs to hunt coyote or snowshoe hare.

3. We allow hunting of snowshoe hare from November 20 to January 1.

4. We allow hunting of coyote with dogs from October 20 to November 9.

5. We allow a maximum of four dogs per hunter.

6. Dogs may only be on the refuge when the hunter is present.

7. You must equip dogs used to hunt coyote with operational radiotelemetry collars. You must be in possession of a working radiotelemetry receiver that can detect and track the frequency(ies) emitted by each radio collar used.

8. We do not allow hunting for coyote and raccoon from ½ hour after sunset to ½ hour before sunrise.

9. We allow pre-hunt scouting, however, we will not allow dogs during pre-hunt scouts.

10. We prohibit dog training.

11. You must wear in a conspicuous manner on the outermost layer of the head, chest, and back, a minimum of 400 square inches (2,600 cm²) of solid-colored hunter orange clothing or material.

12. You must unload all firearms outside of legal State hunting hours.

13. We prohibit the use of all-terrain vehicles (ATV's).

14. The refuge will be open to hunting during the hours stipulated under New Hampshire hunting regulations, but no longer than from ½ hour before legal sunrise to ½ hour after legal sunset.

C. Big Game Hunting. We allow hunting of white-tailed deer, moose, and black bear on designated areas of the refuge subject to the following conditions:

1. We allow hunting of bear with dogs from October 20 to November 9.

2. You must equip dogs used to hunt bear with operational radiotelemetry collars. You must be in possession of a working radiotelemetry receiver that can detect and track the frequency(ies) emitted by each radio collar used.

3. We allow a maximum of four dogs per hunter.

4. Dogs may only be on the refuge when the hunter is present.

5. You must take the first bear you tree, except in the case of cubs or a sow with cubs.

6. You must report where you took the bear to the State of New Hampshire.

7. We allow pre-hunt scouting, however, we do not allow dogs during pre-hunt scouts.

8. We prohibit dog training.

9. You may use only portable tree stands, and you must remove them from the refuge each day.

10. You must wear in a conspicuous manner on the outermost layer of the head, chest, and back, a minimum of 400 square inches (2,600 cm²) of solid-colored hunter orange clothing or material.

11. You must unload all firearms outside of legal State hunting hours.

12. We prohibit the use of all-terrain vehicles (ATV's).

13. The refuge will be open to hunting during the hours stipulated under New Hampshire hunting regulations, but no longer than from ½ hour before legal sunrise to ½ hour after legal sunset.

D. Sport Fishing. [Reserved]

21. In § 32.49 New Jersey by revising paragraphs A., C.1., and D.1., revising the introductory text of paragraphs C. and D., and adding paragraph D.4 of Edwin B. Forsythe National Wildlife Refuge.

§ 32.49 New Jersey.

* * * * *

Edwin B. Forsythe National Wildlife Refuge

A. Hunting of Migratory Game Birds. We allow hunting of waterfowl, coots, moorhens, and rails on designated areas of the refuge subject to the following conditions:

1. You must remove all hunting blind materials, boats, and decoys at the end of each hunting day. We do not allow permanent and pit blinds.

2. We may restrict use of Hunting Unit 3 of the Brigantine Division to certified Young Waterfowl Program trainees for up to 30 days as posted.

3. You may not possess more than 25 shells per day in Hunting Units A, B, and C in the Barnegat Division. You may not possess more than 50 shells per day in Unit 1 of the Brigantine Division.

4. In Hunting Unit B of the Barnegat Division, we restrict hunting to designated sites, with each site limited to one party of hunters. We require a minimum of six decoys per site.

5. In Hunting Unit D of the Barnegat Division, we require a minimum of six decoys and do not allow jump shooting. Access is by boat only; we do not allow foot access.

6. Access is by boat only in all Units except the portion of Unit A that is south of West Creek Dock Road, in the Barnegat Division, and Unit 5 in the Brigantine Division. You may access these Units by foot or boat.

7. You may occupy no sites or Units before 4:00 a.m. Access is by boat only.

8. You may possess only approved nontoxic shot while in the field.

* * * * *

C. Big Game Hunting. We allow hunting of white-tailed deer on designated areas of the refuge subject to the following conditions:

1. We require a State permit for the appropriate New Jersey Deer Management Zone. You must have this permit stamped and validated in person at the Refuge Headquarters.

* * * * *

D. Sport Fishing. We allow fishing on designated areas of the refuge subject to the following conditions:

1. We allow saltwater fishing from the Holgate beach and Little Beach Island with the exception of those areas posted as closed. We may close the Holgate Unit and Little Beach Island to all public use during the migratory bird nesting season. We require a saltwater fishing permit to fish from Little Beach Island. You may obtain permits from the Refuge Headquarters.

* * * * *

4. We allow bank fishing and crabbing at designated areas. Contact the Refuge Headquarters for locations.

* * * * *

22. In § 32.50 New Mexico by alphabetically adding San Andres National Wildlife Refuge to read as follows:

§ 32.50 New Mexico.

* * * * *

San Andres National Wildlife Refuge

A. Hunting of Migratory Game Birds. [Reserved]

B. Upland Game Hunting. [Reserved]

C. Big Game Hunting. We allow hunting of oryx or gemsbok (Oryx gazella) on designated areas of the refuge subject to the following conditions:

1. We require hunters to check in and out of the hunt area.

2. We require hunters to attend unexploded ordnance (UXO) training prior to entering the hunt area.

3. We require State permits and payment of a hunt fee.

D. Sport Fishing. [Reserved]

* * * * *

23. In § 32.51 New York by revising paragraphs A.1., B.1., C., and D.4, deleting paragraph A.3, and redesignating paragraphs A.4., A.5., A.6., and A.7., and A.8. as paragraphs A.3., A.4., A.5., A.6., and A.7. of Iroquois National Wildlife Refuge to read as follows:

§ 32.51 New York.

* * * * *

Iroquois National Wildlife Refuge

A. Hunting of Migratory Game Birds. * * *

1. We require refuge permits.

* * * * *

B. Upland Game Hunting. * * *

1. We require refuge permits.

* * * * *

C. Big Game Hunting. We allow hunting of deer and turkeys on designated areas of the refuge subject to the following condition: We require refuge permits.

D. Sport Fishing. * * *

* * * * *

4. We do not allow the use of boats or other flotation devices with the exception that you may use nonmotorized boats on Oak Orchard Creek east of Route 63.

* * * * *

24. In § 32.52 North Carolina by:

a. Revising paragraphs A.2., B.3., and C.3. of Pocosin Lakes National Wildlife Refuge; and

b. Revising paragraphs A. and B. of Roanoke River National Wildlife Refuge to read as follows:

§ 32.52 North Carolina.

* * * * *

Pocosin Lakes National Wildlife Refuge

A. Hunting of Migratory Game Birds. * * *

* * * * *

2. Firearms in transport by vehicle or boat under power must remain unloaded.

* * * * *

B. Upland Game Hunting. * * *

* * * * *

3. Firearms in transport by a vehicle or boat under power must remain unloaded.

* * * * *

C. Big Game Hunting. * * *

* * * * *

3. Firearms in transport by a vehicle or boat under power must remain unloaded.

* * * * *

Roanoke River National Wildlife Refuge

A. Hunting of Migratory Game Birds. We allow hunting of ducks and coots on designated areas of the refuge subject to the following condition: We require refuge permits.

B. Upland Game Hunting. We allow hunting of squirrel, raccoon, and opossum on designated areas of the refuge subject to the following conditions:

1. We require refuge permits.

2. You may possess only approved nontoxic shot while in the field.

* * * * *

25. In § 32.53 North Dakota by:

a. Revising paragraphs B. and C. of Lake Zahl National Wildlife Refuge; and

b. Revising paragraph C. of Upper Souris National Wildlife Refuge to read as follows:

§ 32.53 North Dakota.

* * * * *

Lake Zahl National Wildlife Refuge

* * * * *

B. Upland Game Hunting. We allow hunting of ring-necked pheasants, sharp-tailed grouse, and gray partridge on designated areas of the refuge subject to the following conditions:

1. You may possess only approved nontoxic shot while in the field.

2. The upland game bird season opens annually on the day following the close of the regular firearm deer season through the end of the State season.

3. Hunters may enter the refuge on foot only.

C. Big Game Hunting. We allow hunting of deer on designated areas of the refuge subject to the following conditions:

1. We allow archery hunting through the day before the opening of the State waterfowl season and allow it following the deer gun season.

2. We allow deer gun hunting concurrent with the State deer gun season.

3. Hunters may enter the refuge on foot only.

* * * * *

Upper Souris National Wildlife Refuge

* * * * *

C. Big Game Hunting. We allow hunting of big game on designated areas of the refuge as per State law with certain restrictions as posted.

* * * * *

26. In § 32.54 Ohio by revising paragraph D. of Cedar Point National Wildlife Refuge to read as follows:

§ 32.54 Ohio.

* * * * *

Cedar Point National Wildlife Refuge

* * * * *

D. Sport Fishing. We allow sport fishing on designated areas of the refuge subject to the following conditions:

1. You may fish only during daylight hours during designated dates.

2. We do not allow boats or flotation devices.

* * * * *

27. In § 32.55 Oklahoma by:

a. Revising paragraph A.4., adding paragraph B.5, and revising paragraph D. of Little River National Wildlife Refuge; and

b. Adding paragraph C.4. and revising paragraphs B.2. and D.9. of Tishomingo National Wildlife Refuge to read as follows:

§ 32.55 Oklahoma.

* * * * *

Little River National Wildlife Refuge

A. Hunting of Migratory Game Birds. * * *

* * * * *

4. You must possess a refuge permit.

* * * * *

B. Upland Game Hunting. * * *

* * * * *

5. You must possess a refuge permit.

* * * * *

D. Sport Fishing. We allow fishing on designated areas of the refuge.

1. We prohibit off-road vehicle use.

2. You must possess a refuge permit.

* * * * *

Tishomingo National Wildlife Refuge

* * * * *

B. Upland Game Hunting. * * *

* * * * *

2. We allow only bows and arrows and shotguns using approved nontoxic shot.

* * * * *

C. Big Game Hunting. * * *

* * * * *

4. We prohibit baiting on the refuge and the Wildlife Management Unit.

D. Sport Fishing. * * *

* * * * *

9. You may only take bait for personal use while fishing in the refuge in accordance with Oklahoma State law. We do not allow removal of bait from the refuge for commercial sales. You cannot release bait back into the water.

* * * * *

28. In § 32.56 Oregon by:

a. Removing Ankeny National Wildlife Refuge;

b. Revising paragraphs A.2. and B.2. and adding paragraphs A.7. and B.5. of Cold Springs National Wildlife Refuge;

c. Revising the heading of “Klamath Forest National Wildlife Refuge” to read “Klamath Marsh National Wildlife Refuge;”

d. Revising paragraphs A.2. and B.2. of McKay Creek National Wildlife Refuge;

e. Adding McNary National Wildlife Refuge; and

f. Revising paragraph A. of William L. Finley National Wildlife Refuge to read as follows:

§ 32.56 Oregon.

* * * * *

Cold Springs National Wildlife Refuge

A. Hunting of Migratory Game Birds. * * *

* * * * *

2. We allow hunting only on Tuesdays, Thursdays, Saturdays, Sundays, Thanksgiving Day, Christmas Day, and New Year's Day.

* * * * *

7. We allow hunting in the Memorial Marsh Unit by designated blind sites only.

B. Upland Game Hunting. * * *

* * * * *

2. We allow hunting only on Tuesdays, Thursdays, Saturdays, Sundays, Thanksgiving Day, Christmas Day, and New Year's Day.

* * * * *

5. We do not allow hunting of upland game birds until noon of each hunt day.

* * * * *

Klamath Marsh National Wildlife Refuge

* * * * *

McKay Creek National Wildlife Refuge

A. Hunting of Migratory Game Birds. * * *

* * * * *

2. We allow hunting only on Tuesdays, Thursdays, Saturdays, Sundays, Thanksgiving Day, Christmas Day, and New Year's Day.

* * * * *

B. Upland Game Hunting. * * *

* * * * *

2. We allow hunting only on Tuesdays, Thursdays, Saturdays, Sundays, Thanksgiving Day, Christmas Day, and New Year's Day.

* * * * *

McNary National Wildlife Refuge

A. Hunting of Migratory Game Birds. We allow hunting of doves on designated areas of the refuge subject to the following conditions:

1. You may possess only approved nontoxic shot while in the field.

2. We allow dove hunting on the State Line and Juniper Canyon Units on legal hunt days in accordance with State regulations.

B. Upland Game Hunting. We allow hunting of upland game on designated areas of the refuge subject to the following conditions:

1. You may possess only approved nontoxic shot while in the field.

2. We allow hunting on State Line and Juniper Canyon Units in accordance with State regulations.

C. Big Game Hunting. We allow deer hunting on designated areas of the refuge subject to the following conditions:

1. We allow shotguns and archery only.

2. We allow hunting on State Line and Juniper Canyon Units in accordance with State regulations.

D. Sport Fishing. [Reserved]

* * * * *

William L. Finley National Wildlife Refuge

A. Hunting of Migratory Game Birds. [Reserved]

* * * * *

29. In § 32.60 South Carolina by:

a. Revising paragraph D. of Cape Romain National Wildlife Refuge; and

b. Revising paragraphs C. and D. of Carolina Sandhills National Wildlife Refuge to read as follows:

§ 32.60 South Carolina.

* * * * *

Cape Romain National Wildlife Refuge

* * * * *

D. Sport Fishing. We allow fishing, crabbing, and shell fishing in accordance with State regulations, as specifically designated in refuge publications, and as posted. Except as posted, we close refuge islands at night. We do not allow shrimp baiting from refuge islands or above the low tide mark.

Carolina Sandhills National Wildlife Refuge

* * * * *

C. Big Game Hunting. We allow hunting of white-tailed deer, turkey, and feral hogs on designated areas of the refuge subject to the following condition: We require refuge permits.

D. Sport Fishing. We allow fishing on all areas of the refuge, except Martins Lake and those areas marked by signs as closed to the public for fishing, subject to the following conditions:

1. We allow fishing from ½ hour before sunrise to ½ hour before sunset.

2. We allow nonmotorized boats and boats with electric motors. You must hand load and unload boats except at designated boat ramps.

3. We do not allow fish baskets, net, set hooks, and trotlines.

* * * * *

30. In § 32.61 South Dakota by:

a. Revising paragraph B. of Pocasse National Wildlife Refuge; and

b. Revising paragraphs B. and D. of Sand Lake National Wildlife Refuge to read as follows:

§ 32.61 South Dakota.

* * * * *

Pocasse National Wildlife Refuge

* * * * *

B. Upland Game Hunting. We allow hunting of pheasant, sharp-tailed grouse, and Hungarian partridge on designated areas of the refuge subject to the following condition: You may possess only approved nontoxic shot while in the field.

* * * * *

Sand Lake National Wildlife Refuge

* * * * *

B. Upland Game Hunting. We allow hunting of sharp-tailed grouse, Hungarian partridge, and pheasant on designated areas of the refuge.

* * * * *

D. Sport Fishing. We allow sport fishing in accordance with State law and as specifically designated in refuge publications.

31. In § 32.63 Texas by:

a. Revising paragraphs A., B., and C. of Balcones Canyonlands National Wildlife Refuge;

b. Alphabetically adding Lower Rio Grande Valley National Wildlife Refuge; and

c. Alphabetically adding Trinity River National Wildlife Refuge to read as follows:

§ 32.63 Texas.

* * * * *

Balcones Canyonlands National Wildlife Refuge

A. Hunting of Migratory Game Birds. We allow hunting of mourning, white-wing, rock, and Eurasian-collared doves on designated areas of the refuge subject to the following conditions:

1. The length of the hunting season will be concurrent with the State season in September and October.

2. We allow hunting in designated areas, from noon to sunset, Saturdays and Sundays.

3. You may possess only approved nontoxic shot while in the field.

4. We require refuge permits and payment of a hunt fee by all hunters.

5. We prohibit dogs.

6. All hunters must be 10 years old or older. An adult 21 years of age or older must supervise hunters ages 10-17 (inclusive).

7. We prohibit use or possession of alcohol.

8. We may immediately close the entire refuge or any portion thereof to hunting for the protection of resources, as determined by the refuge manager.

B. Upland Game Hunting. We allow hunting of turkey on designated areas of the refuge subject to the following conditions:

1. We allow hunting in November, December, and/or January.

2. We require hunters to check in and out of a hunt area.

3. We allow bows and arrows, shotguns, and rifles.

4. We may immediately close the entire refuge or any portion thereof to hunting for the protection of resources, as determined by the refuge manager.

5. Hunters must be at least 12 years of age. An adult 21 years of age or older must supervise hunters between the ages of 12 and 17 (inclusive).

6. The refuge will set bag limits.

7. We require hunters to visibly wear 400 square inches (2,600 cm²) of hunter orange on the outermost layer of the head, chest and back, which must include a hunter orange hat or cap.

8. We require refuge permits and the payment of a hunt fee.

C. Big Game Hunting. We allow hunting of white-tailed deer and feral hogs on designated areas of the refuge subject to the following conditions:

1. We allow hunting in November, December, and/or January.

2. We require hunters to check in and out daily at designated check stations.

3. We allow bows and arrows, shotguns, and rifles.

4. We may immediately close to hunting the entire refuge or any portion thereof for the protection of resources as determined by the refuge manager.

5. Hunters must be at least 12 years of age. An adult 21 years of age or older must supervise hunters between the ages of 12 and 17 (inclusive).

6. The refuge will set bag limits.

7. We require hunters to wear 400 square inches (2,600 cm2) of hunter orange on the outermost layer of the head, chest, and back, which must include a hunter orange hat or cap.

8. We require refuge permits and the payment of a hunt fee.

* * * * *

Lower Rio Grande Valley National Wildlife Refuge

A. Hunting of Migratory Game Birds. We allow hunting of mourning, white-winged, and white-tipped doves in the months of September, October, and November on designated areas of the refuge, subject to the following conditions:

1. We require a refuge permit and payment of a fee.

2. We limit hunting to the months of September, October, and November in accordance with the State hunting season.

3. We allow only shotguns.

4. You may possess only approved nontoxic shot while in the field.

5. All hunters must be 12 years of age or older. An adult 21 years old or older must accompany hunters 12-17 years of age.

6. You may park at designated locations only.

B. Upland Game Hunting. [Reserved]

C. Big Game Hunting. We allow hunting of white-tailed deer, feral hogs, and nilgai antelope on designated areas of the refuge subject to the following conditions:

1. We require a refuge permit and payment of a fee.

2. We will offer hunting during portions of the State hunting season.

3. We enforce a two-deer (one buck only) limit on white-tailed deer and no limit on feral hogs and nilgai antelope.

4. All hunters must be 12 years of age or older. An adult 21 years old or older must accompany hunters 12-17 years of age.

5. We will determine location and method of hunt each year.

6. You may park at designated locations only.

7. We prohibit the use of dogs and baiting for hunting.

D. Sport Fishing. [Reserved]

* * * * *

Trinity River National Wildlife Refuge

A. Hunting of Migratory Game Birds. [Reserved]

B. Upland Game Hunting. [Reserved]

C. Big Game Hunting. [Reserved]

D. Sport Fishing. We allow fishing on Champion Lake subject to the following conditions:

1. We allow fishing only with pole and line, rod and reel, or hand-held line.

2. We do not allow the use of trotlines, setlines, bows and arrows, gigs, spears, or fish traps.

3. We do not allow use of frogs or turtles.

4. We allow fishing from sunrise to sunset.

5. We limit motors to a maximum of 10 horsepower. You may not fish or enter within 200 yards (180 m) of an established bird rookery from March through the end of May. Check at refuge headquarters for rookery location(s).

32. In § 32.65 Vermont by revising paragraphs A.1., A.2., A.4., A.5., C.1., C.4., and D. of Missisquoi National Wildlife Refuge to read as follows:

§ 32.65 Vermont.

* * * * *

Missisquoi National Wildlife Refuge

A. Hunting of Migratory Game Birds. * * *

1. We require refuge permits to hunt in the Long Marsh Channel—Metcalfe Island Controlled Hunting Area, the Junior Waterfowl Hunting Area, and the Saxe's Pothole-Creek and Shad Island Pothole Hunting Area.

2. You may not possess more than 25 shells per day on the Long Marsh Channel-Metcalfe Island Controlled Hunting Area, the Junior Waterfowl Hunting Area, and the Saxe's Pothole-Creek and Shad Island Pothole Hunting Area.

* * * * *

4. Within any controlled hunting area, you must hunt within 100 feet (30 m) of the blind or blind stake for the area except to retrieve crippled birds.

5. You must hunt with one retriever per hunting party of up to two hunters per party within the Saxe's Pothole-Creek and Shad Island Pothole Hunting Area, the Long Marsh Channel-Metcalfe Island Hunting Area, and the Maquam Swamp Hunting Area.

* * * * *

C. Big Game Hunting. * * *

1. You may use only shotguns and muzzleloaders on that part of the refuge east of the Missisquoi River during the State regular season or on that part of the refuge north and east of Route 78 during the Youth Hunt.

* * * * *

4. You may use only portable tree stands. You may leave them in place during deer seasons with proper notation on the big game permit.

D. Sport Fishing. We allow fishing on designated areas of the refuge subject to the following condition: We allow fishing from refuge lands along Lake Champlain and the Missisquoi River, except from any refuge dike or from or within any refuge water management unit.

33. In § 32.66 Virginia by:

a. Adding paragraph D.3. of Back Bay National Wildlife Refuge;

b. Revising paragraph A. of Chincoteague National Wildlife Refuge; and

c. Adding the alphabetical listing of Mackay Island National Wildlife Refuge to read as follows:

§ 32.66 Virginia.

* * * * *

Back Bay National Wildlife Refuge

* * * * *

D. Sport Fishing. * * *

* * * * *

3. We require a refuge permit to fish in “D” Pool.

* * * * *

Chincoteague National Wildlife Refuge

A. Hunting of Migratory Game Birds. We allow hunting of migratory waterfowl and rails on designated areas of the refuge subject to the following conditions:

1. We require a refuge permit to hunt in designated public hunting areas.

2. We allow guided hunting in designated areas of Wildcat Marsh with refuge-designated commercial guides.

* * * * *

Mackay Island National Wildlife Refuge

A. Hunting of Migratory Game Birds. [Reserved]

B. Upland Game Hunting. [Reserved]

C. Big Game Hunting. We allow hunting of deer on designated areas of the refuge subject to the following condition: We require refuge permits.

D. Sport Fishing. We allow fishing on designated areas of the refuge subject to the following conditions:

1. We allow fishing only from sunrise to sunset from March 15 through October 15.

2. You must attend all fishing lines.

3. We do not allow airboats.

* * * * *

34. In § 32.67 Washington by:

a. Alphabetically adding Arid Lands National Wildlife Refuge Complex;

b. Revising paragraphs A.1., A.3., and C. of Columbia National Wildlife Refuge;

c. Revising McNary National Wildlife Refuge;

d. Removing paragraphs A.4. and B.4., redesignating paragraphs A.5, A.6., and B.5. as A.4., A.5., and B.4. and revising newly redesignated paragraphs A.4., A.5., and B.4. of Toppenish National Wildlife Refuge; and

e. Revising paragraphs A. and D. of Willapa National Wildlife Refuge to read as follows:

§ 32.67 Washington.

* * * * *

Arid Lands National Wildlife Refuge Complex

A. Hunting of Migratory Game Birds. We allow hunting of migratory game birds on the Wahluke Wildlife Recreation Unit of the Complex subject to the following condition: You may possess only approved nontoxic shot while in the field.

B. Upland Game Hunting. We allow hunting of upland game on the Wahluke Wildlife Recreation Unit of the Complex subject to the following conditions:

1. You may possess only approved nontoxic shot while in the field.

2. We allow only shotguns.

C. Big Game Hunting. We allow hunting of big game on the Wahluke Wildlife Recreation Unit of the Complex subject to the following condition: We allow only shotgun, muzzle loader, and archery hunting.

D. Sport Fishing. We allow fishing on designated areas of the Wahluke Wildlife Recreation Unit of the Complex.

Columbia National Wildlife Refuge

A. Hunting of Migratory Game Birds. * * *

1. In Marsh Unit 1 and Farm Units 226-227, we allow hunting only on Wednesdays, Saturdays, Sundays, and Federal holidays.

* * * * *

3. In Marsh Unit 1, concurrent with the State's designated Youth Day prior to the opening of the waterfowl season, an adult at least 18 years of age who is not hunting must accompany hunters under 16 years of age.

* * * * *

C. Big Game Hunting. We allow hunting of deer on designated areas of the refuge subject to the following conditions:

1. We allow only shotgun and archery hunting.

2. We allow hunting of deer only during State seasons that run concurrently with the State waterfowl season.

* * * * *

McNary National Wildlife Refuge

A. Hunting of Migratory Game Birds. We allow hunting of geese, ducks, coots, doves, and snipe on designated areas of the refuge subject to the following conditions:

1. On the McNary Division, we allow hunting by refuge permit only. On the first Saturday in December, only youth aged 10-17 and an accompanying adult aged 18 or over may hunt.

2. We allow dove hunting only on the Wallula, Two Rivers, Peninsula, State line, and Juniper Canyon Units on legal hunt days in accordance with State regulations.

3. We allow waterfowl hunting on the Wallula and Two Rivers Units 7 days a week during State waterfowl season.

4. We allow waterfowl hunting on the Peninsula Unit Friday through Monday during State waterfowl season subject to the following condition: Hunting on the east side of the Peninsula and in the goose pits is by assigned blinds on a first-come, first-served basis.

5. The refuge is open from 5 a.m. to 1½ hours after sunset. You may not leave decoys and other personal property on the refuge overnight.

6. You may not possess more than 25 approved nontoxic shells while in the field.

B. Upland Game Hunting. We allow hunting of upland game on designated areas of the refuge subject to the following conditions:

1. On the McNary Division, we allow hunting only on Wednesdays, Saturdays, Sundays, Thanksgiving Day, Christmas Day, and New Year's Day. We do not allow hunting until noon of each hunt day. Hunting is for pheasant and quail only. On the first Saturday in December, only youth aged 10-17 and an accompanying adult aged 18 or over may hunt.

2. You may not possess more than 25 approved nontoxic shot shells while in the field.

3. We allow upland game hunting on the Wallula, Two Rivers, State line, and Juniper Canyon Units in accordance with State regulations.

4. We do not allow hunting on the Peninsula Unit until noon on legal goose hunting days.

C. Big Game Hunting. We allow hunting of deer only on the Wallula, Two Rivers, Peninsula, State line, and Juniper Canyon Units subject to the following condition: We allow shotguns and archery only in accordance with State regulations.

D. Sport Fishing. We allow fishing on designated areas of the refuge subject to the following conditions:

1. On the McNary Division, visiting hours are from sunrise to sunset. We do not allow the use of boats and other flotation devices.

2. We allow fishing only with hook and line.

3. We allow fishing on the Wallula, Two Rivers, and Peninsula Units in accordance with State regulations.

* * * * *

Toppenish National Wildlife Refuge

A. Hunting of Migratory Game Birds. * * *

* * * * *

4. Snipe hunters may possess only approved nontoxic shot while in the field.

5. On the Halvorson and Webb Units, you may hunt on Wednesdays, Saturdays, Sundays, Thanksgiving Day, Christmas Day, and New Year's Day only. On the Robbins Road Unit, you may hunt on Tuesdays, Thursdays, Saturdays, Sundays, Thanksgiving Day, Christmas Day, and New Year's Day only. Pumphouse, Isiri, Petty, and Chambers Units are open 7 days a week during waterfowl season.

B. Upland Game Hunting. * * *

* * * * *

4. On the Halvorson and Webb Units, you may hunt on Wednesdays, Saturdays, Sundays, Thanksgiving Day, Christmas Day, and New Year's Day only. On the Robbins Road Unit, you may hunt on Tuesdays, Thursdays, Saturdays, Sundays, Thanksgiving Day, Christmas Day, and New Year's Day only. Pumphouse, Isiri, Petty, and Chambers Units are open 7 days a week during waterfowl season.

* * * * *

Willapa National Wildlife Refuge

A. Hunting of Migratory Game Birds. We allow hunting of geese, ducks, and coots on designated areas of Riekkola and Lewis Units, in accordance with State hunting regulations and subject to the following conditions:

1. Prior to entering the hunt area at the Riekkola Unit, we require you to obtain a refuge permit, pay a recreation user fee, and obtain a blind assignment.

2. At the Riekkola Unit, you may take ducks and coot only coincidental to hunting geese. We do not allow exclusive hunting of ducks in the Riekkola Unit.

3. We allow hunting in the Riekkola Unit only from established blinds on Wednesdays and Saturdays.

4. You may possess no more than 25 approved nontoxic shells per day while in the field.

* * * * *

D. Sport Fishing. We allow sport fishing along the shoreline of Willapa Bay and Bear River on refuge-owned lands in accordance with State regulations.

35. In § 32.68 West Virginia by adding paragraph C.2. in Canaan Valley National Wildlife Refuge to read as follows:

§ 32.68 West Virginia.

* * * * *

C. Big Game Hunting. * * *

* * * * *

2. We allow shotgun and muzzle-loader hunting only with the possession of approved nontoxic shot size #4 or smaller for hunting of wild turkey. We prohibit rifle hunting.

* * * * *

36. In § 32.69 Wisconsin by revising paragraphs B.2., C.1., and C.2. of Necedah National Wildlife Refuge to read as follows:

§ 32.69 Wisconsin.

* * * * *

Necedah National Wildlife Refuge

* * * * *

B. Upland Game Hunting. * * *

* * * * *

2. During the spring turkey season, we allow unarmed hunters who have an unexpired spring turkey permit in their possession to scout the hunt area. We allow this scouting beginning on the Saturday immediately prior to the opening date listed on their State turkey hunting permit.

* * * * *

C. Big Game Hunting. * * *

1. You may not possess a loaded firearm or a nocked arrow on a bow within 50 feet (15 m) of the centerline of all public roads. Also, during the gun deer season, you may not possess a loaded firearm within 50 feet (15 m) of the center of refuge trails, nor may you discharge a gun from across, down, or alongside these trails.

2. You may not construct or use permanent blinds, stands, or ladders.

* * * * *

37. In § 32.71 United States Unincorporated Pacific Insular Possessions by revising paragraph D. of Johnston Atoll National Wildlife Refuge to read as follows:

§ 32.71 United States Unincorporated Pacific Insular Possessions.

Johnston Atoll National Wildlife Refuge.

* * * * *

D. Sport Fishing. We allow fishing only in accordance with posted regulations (Conservation of Natural Resources and Protection of Fish and Wildlife on Johnston Atoll National Wildlife Refuge), which are available at refuge headquarters. Other special restrictions apply on this refuge, and we outline them in the regulations.

* * * * *

Dated: June 20, 2000.
Donald J. Barry,
Assistant Secretary for Fish and Wildlife and Parks.

[FR Doc. 00-16677 Filed 7-7-00; 8:45 am]

BILLING CODE 4310-55-P